DEPARTMENT OF THE INTERIOR

National Park Service

Notice of Intent To Prepare an Environmental Impact Statement for the General Management Plan for the Blue Ridge Parkway

AGENCY: National Park Service, Interior.

ACTION: Notice of intent to prepare an Environmental Impact Statement for the General Management Plan for the Blue Ridge Parkway

SUMMARY: Notice is hereby given that in accordance with the National Environmental Policy Act of 1969, the U.S. Department of the Interior, National Park Service will prepare an Environmental Impact Statement on the General Management Plan for the Blue Ridge Parkway. The statement will assess potential environmental impacts associated with various types and levels of visitor use and resources management within the parkway boundary. Specific issues to be addressed include appropriate levels and types of visitor use along the parkway and at various developed areas, and the protection of natural, cultural, and scenic resources. Adjacent land uses and transportation improvements, their effect on parkway resources and visitors, and strategies for cooperation among public and private land managers will also be explored.

DATES: To determine the scope of issues to be addressed in the GMP and EIS and identify significant issues related to the project, a series of planning newsletters with public response forms will be distributed to the public and public scoping meetings will be held in the summer, 2002. When these meetings have been scheduled, public notice will be provided. Representatives of the National Park Service will be available to discuss issues, resource concerns, and the planning process at each of the public meetings.

ADDRESSES: Any comments or requests for information should be addressed to Superintendent, Blue Ridge Parkway, 1999 Hemphill Knob Road, Asheville, North Carolina 28803.

FOR FURTHER INFORMATION CONTACT: Superintendent, Blue Ridge Parkway, 1999 Hemphill Knob Road, Asheville, North Carolina 28803, (828) 271-4779.

SUPPLEMENTARY INFORMATION: The Blue Ridge Parkway is located in southwestern Virginia and northwestern North Carolina in the Central and Southern Appalachian Mountains. The parkway is 469 miles long, connecting Shenandoah National Park in the north with Great Smoky Mountains National Park to the south. Created in 1936 as a national rural parkway, the parkway is designed for recreational driving free from commercial traffic and with limited access. The parkway traverses the crests, ridges, and valleys of five major mountain ranges, encompassing several geographic and vegetative zones ranging from 500 to over 6,000 feet above sea level. It provides visitors with many varied vistas of scenic Appalachian landscapes ranging from forested ridge tops and mountain slopes to rural farm lands to urban areas. Although most of the parkway has a very narrow right of way, it includes several large recreational and natural history areas and Appalachian cultural sites along its length.

Today, the parkway encompasses 82,000 acres of federally owned land. The parkway has over 1000 miles of boundary to manage, 4000 adjacent land owners, 29 county and several city governments to interact with, and has 500,000 acres of scenic viewshed outside of its boundary. There are 191 public access points on the parkway from the regional road systems. This planning effort will evaluate a range of alternative methods to provide a quality visitor experience while maximizing protection of resources and operational efficiency.

Public documents associated with the planning effort, including all newsletters, will be posted on the Internet through the Info Zone at www.nps.gov.

Our practice is to make the public comments we receive in response to planning documents, including names and home addresses of respondents, available for public review during regular business hours. If you wish for us to withhold your name and/or address, you must state this prominently at the beginning of your comment. Anonymous comments will be included in the public record. However, the National Park Service is not legally required to consider or respond to anonymous comments. We will make all submissions from organizations or businesses, and from individuals identifying themselves as representatives or officials of organizations or businesses, available for public inspection in their entirety.

The draft and final environmental impact statement will be distributed to all known interested parties and appropriate agencies. Full public participation by federal, state, and local agencies as well as other concerned organizations and private citizens is invited throughout the preparation process of this document.

The responsible official for this environmental impact statement is Jerry Belson, Regional Director, National Park Service, Southeast Region, 100 Alabama Street, SW., Atlanta, Georgia 30303.

Dated: November 5, 2002.
Wallace A. Hibbard,
Regional Director, Southeast Region.

[FR Doc. 02-6042 Filed 3-12-02; 8:45 am]

BILLING CODE 4310-70-M